DEPARTMENT OF TRANSPORTATION

Federal Aviation Administration

14 CFR Part 39

[Docket No. 2000-SW-27-AD]

Airworthiness Directives; Siam Hiller Holdings, Inc. Model UH-12, UH-12A, UH-12B, UH-12C, UH-12D, UH-12E, UH-12E-L, UH-12L, and UH-12L4 Helicopters

AGENCY: Federal Aviation Administration, DOT.

ACTION: Notice of proposed rulemaking (NPRM).

SUMMARY: This document proposes the adoption of a new airworthiness directive (AD) for Siam Hiller Holdings, Inc. (Hiller), formerly Rogerson Hiller Corporation, Model UH-12, UH-12A, UH-12B, UH-12C, UH-12D, UH-12E, UH-12E-l, UH-12L, and UH-12L4 helicopters. The AD would require replacing all undrilled-shank bolts at pivoting joints in the control system linkage with drilled-shank bolts and installing castellated nuts and cotter pins. This proposal is prompted by an accident caused by separation of the control system linkage of a Model UH-12E helicopter. The actions specified by the proposed AD are intended to prevent separation of the control system attachments at pivoting points and subsequent loss of control of the helicopter.

DATES: Comments must be received on or before October 30, 2000.

ADDRESSES: Submit comments in triplicate to the Federal Aviation Administration (FAA), Office of the Regional Counsel, Southwest Region, Attention: Rules Docket No. 2000-SW-27-AD, 2601 Meacham Blvd., Room 663, Fort Worth, Texas 76137. You may also send comments electronically to the Rules Docket at the following address: 9-asw-adcomments@faa.gov. Comments may be inspected at the Office of the Regional Counsel between 9 a.m. and 3 p.m., Monday through Friday, except Federal holidays.

FOR FURTHER INFORMATION CONTACT: Jon Mowery, Aviation Safety Engineer, FAA, Los Angeles Aircraft Certification Office, Airframe Branch, 3960 Paramount Blvd., Lakewood, California 90712-4137, telephone (562) 627-5322, fax (562) 627-5210.

SUPPLEMENTARY INFORMATION:

Comments Invited

Interested persons are invited to participate in the making of the proposed rule by submitting such written data, views, or arguments as they may desire. Communications should identify the Rules Docket number and be submitted in triplicate to the address specified above. All communications received on or before the closing date for comments will be considered before taking action on the proposed rule. The proposals contained in this notice may be changed in light of the comments received.

Comments are specifically invited on the overall regulatory, economic, environmental, and energy aspects of the proposed rule. All comments submitted will be available in the Rules Docket for examination by interested persons. A report summarizing each FAA-public contact concerned with the substance of this proposal will be filed in the Rules Docket.

Commenters wishing the FAA to acknowledge receipt of their mailed comments submitted in response to this notice must submit a self-addressed, stamped postcard on which the following statement is made: “Comments to Docket No. 2000-SW-27-AD.” The postcard will be date stamped and returned to the commenter.

Availability of NPRMs

Any person may obtain a copy of this NPRM by submitting a request to the FAA, Office of the Regional Counsel, Southwest Region, Attention: Rules Docket No. 2000-SW-27-AD, 2601 Meacham Blvd., Room 663, Fort Worth, Texas 76137.

Discussion

This document proposes the adoption of a new airworthiness directive (AD) for Hiller Model UH-12, UH-12A, UH-12B, UH-12C, UH-12D, UH-12E, UH-12E-l, UH-12L, and UH-12L4 helicopters. The AD would require replacing all undrilled-shank bolts at pivoting joints in control system linkage with drilled-shank bolts and installing castellated nuts and cotter pins. This proposal is prompted by an accident due to separation of the control system attachments at pivoting points on a Model UH-12E helicopter. The attachments are bolts with self-locking nuts that can lose the self-locking feature with repeated disassembly. This condition, if not corrected, could result in separation of the control system attachments at pivoting points and subsequent loss of control of the helicopter.

The FAA has reviewed Hiller Aircraft Service Bulletin No. 10-4, Revision 2, dated December 20, 1999 (SB), which describes procedures for replacing plain bolts and self-locking nuts, used at pivoting joints, with drilled-shank bolts, castellated nuts, and cotter pins.

We have identified an unsafe condition that is likely to exist or develop on other Hiller Model UH-12, UH-12A, UH-12B, UH-12C, UH-12D, UH-12E, UH-12E-L, UH-12L, and UH-12L4 helicopters of the same type design. The proposed AD would require at the next annual inspection or within 12 months, whichever occurs first, replacing all undrilled-shank bolts with drilled-shank bolts at pivoting joints in the control system linkage and installing castellated nuts and cotter pins. The actions would be required to be accomplished in accordance with the SB described previously.

The FAA estimates that 500 helicopters of U.S. registry would be affected by this proposed AD, that it would take approximately 24 work hours per helicopter to accomplish the proposed actions, and that the average labor rate is $60 per work hour. Required parts would cost approximately $150 per helicopter. Based on these figures, the total cost impact of the proposed AD on U.S. operators is estimated to be $795,000.

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

Siam Hiller Holdings, Inc.: Docket No. 2000-SW-27-AD.

Applicability: Model UH-12, UH-12A, UH-12B, UH-12C, UH-12D, UH-12E, UH-12E-L, UH-12L, UH-12L4 helicopters, certificated in any category.

Note 1: This AD applies to each helicopter identified in the preceding applicability provision, regardless of whether it has been otherwise modified, altered, or repaired in the area subject to the requirements of this AD. For helicopters that have been modified, altered, or repaired so that the performance of the requirements of this AD is affected, the owner/operator must request approval for an alternative method of compliance in accordance with paragraph (b) of this AD. The request should include an assessment of the effect of the modification, alteration, or repair on the unsafe condition addressed by this AD; and if the unsafe condition has not been eliminated, the request should include specific proposed actions to address it.

Compliance: Required at the next annual inspection or within 12 months, whichever occurs first, unless accomplished previously.

To prevent separation of the control system attachments at pivoting points and subsequent loss of control of the helicopter, accomplish the following:

(a) Replace all undrilled-shank bolts at pivoting joints in the control system linkage with drilled-shank bolts, and install castellated nuts and cotter pins in accordance with Hiller Aircraft Corporation Service Bulletin No. 10-4, Revision 2, dated December 20, 1999.

(b) An alternative method of compliance or adjustment of the compliance time that provides an acceptable level of safety may be used if approved by the Manager, Los Angeles Aircraft Certification Office, FAA. Operators shall submit their requests through an FAA Principal Maintenance Inspector, who may concur or comment and then send it to the Manager, Los Angeles Aircraft Certification Office.

Note 2: Information concerning the existence of approved alternative methods of compliance with this AD, if any, may be obtained from the Los Angeles Aircraft Certification Office.

(c) Special flight permits may be issued in accordance with sections 21.197 and 21.199 of the Federal Aviation Regulations (14 CFR 21.197 and 21.199) to operate the helicopter to a location where the requirements of this AD can be accomplished.

Issued in Fort Worth, Texas, on August 24, 2000.
Eric Bries,
Acting Manager, Rotorcraft Directorate, Aircraft Certification Service.

[FR Doc. 00-22283 Filed 8-30-00; 8:45 am]

BILLING CODE 4910-13-U